ENVIRONMENTAL PROTECTION AGENCY

[FRL-7954-9]

Notice of Proposed Administrative Settlement Pursuant to the Comprehensive Environmental Response, Compensation, and Liability Act, as Amended by the Superfund Amendments and Reauthorization Act

AGENCY: Environmental Protection Agency (EPA).

ACTION: Notice, request for public comments.

SUMMARY: In accordance with section 122(i) of the Comprehensive Environmental Response, Compensation, and Liability Act, as amended by the Superfund Amendments and Reauthorization Action (“CERCLA”), 42 U.S.C. 9622(i), notice is hereby given of a proposed Administrative Order on Consent (“AOC,” Region 9 Docket No. 2005-0013) pursuant to section 122(h) of CERCLA concerning the Perris Drum Superfund Removal Site (the “Site”), located in Perris, California. The respondent to the AOC is The Glidden Company (“Glidden”). Through the proposed AOC, Glidden will reimburse the United States $95,000 in response costs incurred at the Site. The AOC provides Glidden with a covenant not to sue and contribution protection for the removal action at the Site. EPA maintains that a predecessor of Glidden arranged for the disposal of a portion of the hazardous substances subject to the response action at the Site. EPA incurred approximately $204,000 in total response costs, and EPA will maintain a lien against the real property that was subject to the response action as a means to obtain the balance of its response costs.

For thirty (30) days following the date of publication of this notice, the Agency will receive written comments relating to the proposed AOC. The Agency's response to any comments received will be available for public inspection at EPA's Region IX offices, located at 75 Hawthorne Street, San Francisco, California 94105.

DATES: Comments must be submitted on or before September 19, 2005.

ADDRESSES: The proposed AOC may be obtained from Judith Winchell, in EPA Region IX Superfund Division, telephone (415) 972-3124. Comments regarding the proposed AOC should be addressed to Ms. Winchell at the U.S. Environmental Protection Agency (SFD-7), 75 Hawthorne Street, San Francisco, California 94105, and should reference the Perris Drum Superfund Removal Site, and Region IX Docket No. 2005-0013.

FOR FURTHER INFORMATION CONTACT: J. Andrew Helmlinger, Office of Regional Counsel, (415) 972-3904, U.S. Environmental Protection Agency, Region IX, 75 Hawthorne Street, San Francisco, CA 94105.

Dated: August 11, 2005.
James C. Hanson,
Acting Director, Superfund Division.

[FR Doc. 05-16480 Filed 8-18-05; 8:45 am]

BILLING CODE 6560-50-P